ENVIRONMENTAL PROTECTION AGENCY

[OEI-2002-0010; FRL 6724-7]

Toxic Chemical Release Reporting; Community Right-to-Know; Request for Comment on Change of Contractor Handling Trade Secret Claims

AGENCY: Environmental Protection Agency (EPA).

ACTION: Notice.

SUMMARY: This notice announces an upcoming change in location and contractor designated to manage the Toxics Release Inventory (TRI) data processing for all TRI submissions including TRI Trade Secret and confidential information submitted pursuant to 40 CFR part 350. In compliance with 40 CFR part 350 (“Trade Secrecy Claims for Emergency Planning and Community Right-to-Know Information”) facilities submitting TRI reports may be eligible to claim Trade Secret for the specific chemical identity of a toxic chemical being reported. Pursuant to 40 CFR 350.23 (“Disclosure to authorized representatives”), information entitled to trade secret or confidential treatment may not be disclosed by the Agency to the Agency's authorized representative until each affected submitter has been furnished notice of the contemplated disclosure by the EPA program office and has been afforded a period found reasonable by that office (not less than five working days) to submit its comments. Pursuant to this Federal Register notice, comments are limited to the change of contractor handling trade secret and confidential information submitted under 40 CFR part 350. Once the transition to the new location has been completed, information regarding the new mailing address will be posted on the TRI Web site (http://www.epa.gov/tri) and will be included in the 2002 Toxic Chemical Release Inventory Reporting Forms and Instructions.

DATES: Comments, identified by the docket control number OEI-2002-0010, must be submitted on or before 5 working days after publication in the Federal Register.

ADDRESSES: Comments may be submitted by mail, electronically, or in person. Please follow the detailed instructions for each method as provided in Unit III. of the SUPPLEMENTARY INFORMATION section of this notice.

FOR FURTHER INFORMATION CONTACT: For general information, contact The Emergency Planning and Community Right-to-Know Hotline at (800) 424-9346 or (703) 412-9810, TDD (800) 553-7672, http://www.epa.gov/epaoswer/hotline/. For technical information about this change in contractor and location for TRI data processing, contact: Wendy Timm, Toxics Release Inventory Program Division, OEI (2844T), Environmental Protection Agency, 1200 Pennsylvania Ave. NW, Washington, DC 20460, Telephone: 202-566-0725; Fax: 202-566-0727; email: timm.wendy@epa.gov. Once the transition to the new location has been completed, information regarding the new mailing address will be posted on the TRI Web site (http://www.epa.gov/tri) and will be included in the 2002 Toxic Chemical Release Inventory Reporting Forms and Instructions.

SUPPLEMENTARY INFORMATION:

I. Does This Notice Apply to Me?

A. Affected Entities: Entities that will be affected by this action are those facilities that manufacture, process, or otherwise use certain toxic chemicals listed on the Toxics Release Inventory (TRI) and which are required under section 313 of the Emergency Planning and Community Right-to-Know Act (EPCRA) of 1986, to report annually to EPA their environmental releases of such chemicals.

Currently, those industries with the following SIC code designations (that meet all other threshold criteria for TRI reporting) must report toxic chemical releases and other waste management activities:

• 20-39, manufacturing sector

• 10, metal mining (except for SIC codes 1011, 1081, and 1094)

• 12, coal mining (except for SIC code 1241 and extraction activities)

• 4911, 4931 and 4939, electrical utilities that combust coal and/or oil for the purpose of generating power for distribution in commerce.

• 4953, RCRA Subtitle C hazardous waste treatment and disposal facilities

• 5169, chemicals and allied products wholesale distributors

• 5171, petroleum bulk plants and terminals

• 7389, solvent recovery services, and

• Federal facilities in any SIC code

To determine whether you or your business is affected by this action, you should carefully examine the applicability provisions at 40 CFR part 350 and 40 CFR part 372. If you have any questions regarding the applicability of this action to a particular entity, consult the person(s) listed in the FOR FURTHER INFORMATION CONTACT section.

II. How Can I Get Copies of This Document and Other Related Information?

A. Docket. EPA has established an official public docket for this action under Docket ID No. OEI-2002-0010.

The public docket includes information considered by EPA in developing this action, including the documents listed below, which are physically located in the docket. In addition, interested parties should consult documents that are referenced in the documents that EPA has placed in the docket, regardless of whether these referenced documents are physically located in the docket. For assistance in locating documents that are referenced in documents that EPA has placed in the docket, but that are not physically located in the docket, please consult the person listed in the preceding FOR FURTHER INFORMATION CONTACT section. Although a part of the official docket, the public docket does not include Confidential Business Information (CBI) or other information whose disclosure is restricted by statute. The official public docket is the collection of materials that is available for public viewing at the EPA Docket Center, (EPA/DC) EPA West, Room B102, 1301 Constitution Ave., NW, Washington, DC. The EPA Docket Center Public Reading Room is open from 8:30 a.m. to 4:30 p.m., Monday through Friday, excluding legal holidays. The telephone number for the Reading Room is (202) 566-1742, and the telephone number for the Notice of Change of Contractor Handling TRI Submissions including TRI Trade Secret Claims Docket is (202) 566-1752.

B. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit II.A. Once in the system, select “search,” then key in the appropriate docket identification number.

III. How Can I Respond to This Notice?

A. How and To Whom Do I Submit Comments?

You may submit comments through the mail, in person, or electronically. Be sure to identify the appropriate docket control number (i.e., OEI-2002-0010) in your correspondence.

1. By mail. All comments should be sent in triplicate to: Office of Environmental Information (OEI/TRI), Environmental Protection Agency, Mailcode: 2822T, 1200 Pennsylvania Ave., NW., Ariel Rios Building, Washington, DC 20460.

2. In person or by courier. Comments may be delivered in person or by courier to: EPA Docket Center, (EPA/DC) EPA West, Room B102, 1301 Constitution Ave., NW., Washington, DC. The DCO is open from 8 a.m. to 4 p.m., Monday through Friday, excluding legal holidays. The telephone number for the DCO is (202) 260-7093.

3. Electronically. Submit your comments electronically by e-mail to: “oei.docket@epa.gov”. Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-2002-0010. Electronic comments on this document may also be filed online at many Federal Depository Libraries.

B. How Should I Handle CBI Information That I Want To Submit to the Agency?

All comments which contain information claimed as CBI must be clearly marked as such. Three sanitized copies of any comments containing information claimed as CBI must also be submitted and will be placed in the public record for this document. Persons submitting information on any portion of which they believe is entitled to treatment as CBI by EPA must assert a business confidentiality claim in accordance with 40 CFR part 2.203(b) for each such portion. This claim must be made at the time that the information is submitted to EPA. If a submitter does not assert a confidentiality claim at the time of submission, EPA will consider this as a waiver of any confidentiality claim and the information may be made available to the public by EPA without further notice to the submitter.

IV. What Is the General Background for This Action?

The Toxics Release Inventory (TRI) is mandated by the Emergency Planning and Community Right-to-Know Act of 1986 (EPCRA) and the Pollution Prevention Act (PPA) of 1990. EPCRA Section 313 and PPA Section 6607 establishes requirements for Federal, State, and local governments and industry regarding reporting of toxic chemical releases and other waste management quantities.

Under Section 322 of EPCRA and 40 CFR part 350, facilities submitting TRI reports may be eligible to claim Trade Secret for the specific chemical identity of the toxic chemical being reported. Pursuant to 40 CFR 350.23 (“Disclosure to authorized representatives”), information entitled to trade secret or confidential treatment may not be disclosed by the Agency to the Agency's authorized representative until each affected submitter has been furnished notice of the contemplated disclosure by the EPA program office and has been afforded a period found reasonable by that office (not less than five working days) to submit its comments. Such notice shall include a description of the information to be disclosed, the identity of the contractor, subcontractor, or grantee, the contract, subcontract, or grant number, if any, and the purposes to be served by the disclosure. This notice may be published in the Federal Register or may be sent to individual submitters.

The Contract to manage the TRI data submissions was recompeted in 1998 and was awarded to the Computer Based Systems Incorporated, now known as Titan Systems, Inc. This contract will end January 31, 2003. The new contract will transition to Computer Sciences Corporation (CSC) (GSA Contract GSOOT99ALD0203) by the end of December 2002. This new facility will be located in New Carrollton, MD. All TRI submissions including trade secret and confidential information submitted pursuant to 40 CFR part 350 will be managed by CSC.

In accordance with 40 CFR 350.23, EPA has determined that CSC and their subcontractors require access to trade secret and confidential information submitted under 40 CFR part 350 in order to receive, manage, process, and safely store such information. The contractor's and subcontractor's personnel will be required to sign a “Confidentiality Agreement” prior to being permitted access to trade secret and confidential information submitted under 40 CFR part 350. All contractor and subcontractor access to TRI trade secret and confidential information will take place at the contractor's facility in New Carrollton, MD. The contractor will have appropriate procedures and facilities in place to safeguard the TRI trade secret and confidential information to which the contractor and subcontractors have access during the term of this contract.

List of Subjects

Environmental protection, Trade Secret and Confidential Information, TRI Data Processing.

Dated: October 21, 2002.
Elaine G. Stanley,
Director, Office of Information Analysis and Access.

[FR Doc. 02-27234 Filed 10-24-02; 8:45 am]

BILLING CODE 6560-50-P